DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: December 14, 2015.
Roy E. Wright,
Deputy Associate Administrator for Insurance and Mitigation, Department of Homeland Security, Federal Emergency Management Agency.

State and county | Location and case No. | Chief executive officer of community | Community map repository | Effective date of modification | Community No.
Alabama:
Tuscaloosa (FEMA Docket No.: B-1534) | City of Tuscaloosa (15-04-0628P) | The Honorable Walter Maddox, Mayor, City of Tuscaloosa, 2201 University Boulevard, Tuscaloosa, AL 35401 | Engineering Department, 2201 University Boulevard, Tuscaloosa, AL 35401 | Oct. 23, 2015 | 010203
Tuscaloosa (FEMA Docket No.: B-1534) | Unincorporated areas of Tuscaloosa County, (15-04-0628P) | The Honorable W. Hardy McCollum, Chairman, Tuscaloosa County Board of Commissioners, 714 Greensboro Avenue, Tuscaloosa, AL 35402 | Tuscaloosa County Engineering Department, 2810 35th Street, Tuscaloosa, AL 35401 | Oct. 23, 2015 | 010201
Colorado:
Jefferson (FEMA Docket No.: B-1534) | City of Golden, (15-08-0786P) | The Honorable Marjorie Sloan, Mayor, City of Golden, 911 10th Street, Golden, CO 80401 | Public Works Department, 1445 10th Street, Golden, CO 80401 | Oct. 23, 2015 | 080090
Teller (FEMA Docket No.: B-1534) | City of Woodland Park, (15-08-0099P) | The Honorable Neil Levy, Mayor, City of Woodland Park, P.O. Box 9007, Woodland Park, CO 80866 | City Hall, 220 West South Avenue, Woodland Park, CO 80866 | Oct. 22, 2015 | 080175
Florida:
Broward (FEMA Docket No.: B-1538) | City of Pembroke Pines, (15-04-4500P) | The Honorable Frank C. Ortis, Mayor, City of Pembroke Pines, 10100 Pines Boulevard, Pembroke Pines, FL 33026 | Environmental Services Division, 13975 Pembroke Road, Pembroke Pines, FL 33027 | Nov. 12, 2015 | 120053
Duval (FEMA Docket No.: B-1538) | City of Jacksonville (15-04-2570P) | The Honorable Alvin Brown, Mayor, City of Jacksonville, 117 West Duval Street, Suite 400, Jacksonville, FL 32202 | City Hall, 214 North Hogan Street, Suite 2100, Jacksonville, FL 32202 | Nov. 12, 2015 | 120077
Manatee (FEMA Docket No.: B-1538) | Town of Longboat Key, (15-04-2751P) | The Honorable Jack Duncan, Mayor, Town of Longboat Key, 501 Bay Isles Road, Longboat Key, FL 34228 | Town Hall, 501 Bay Isles Road, Longboat Key, FL 34228 | Nov. 18, 2015 | 125126
Monroe (FEMA Docket No.: B-1545) | City of Key West, (15-04-0697P) | The Honorable Craig Cates, Mayor, City of Key West, 3126 Flagler Avenue, Key West, FL 33040 | Planning Department, 605A Simonton Street, Key West, FL 33040 | Aug. 20, 2015 | 120168
St. Johns (FEMA Docket No.: B-1538) | Unincorporated areas of St. Johns County, (15-04-5662P) | The Honorable James K. Johns, Commissioner, St. Johns County District 1, 500 San Sebastian View, St. Augustine, FL 32084 | St. Johns County Planning and Zoning Department, 4040 Lewis Speedway, St. Augustine, FL 32084 | Nov. 19, 2015 | 125147
Georgia:
Columbia (FEMA Docket No.: B-1538) | Unincorporated areas of Columbia County, (15-04-4690P) | The Honorable Ron C. Cross, Chairman, Columbia County Board of Commissioners, P.O. Box 498, Evans, GA 30809 | Columbia County Engineering Services Department, 630 Ronald Reagan Drive, Building A, Evans, GA 30809 | Nov. 19, 2015 | 130059
Forsyth (FEMA Docket No.: B-1545) | Unincorporated areas of Forsyth County, (15-04-0696P) | The Honorable R.J. (Pete) Amos, Chairman, Forsyth County Board of Commissioners, 110 East Main Street, Suite 210, Cumming, GA 30040 | Forsyth County Department of Engineering, 110 East Main Street, Suite 120, Cumming, GA 30040 | Nov. 19, 2015 | 130312
Massachusetts:, Barnstable (FEMA Docket No.: B-1538) | Town of Barnstable, (15-01-2052P) | The Honorable Jessica Rapp Grassetti, President, Town of Barnstable Council, 367 Main Street, Hyannis, MA 02601 | Town Hall, 367 Main Street, Hyannis, MA 02601 | Nov. 16, 2015 | 250001
Montana:
Gallatin (FEMA Docket No.: B-1534) | City of Bozeman, (15-08-0124P) | The Honorable Jeff Krauss, Mayor, City of Bozeman, P.O. Box 1230, Bozeman, MT 59771 | Public Works Department, 20 East Olive Street, Bozeman, MT 59771 | Oct. 23, 2015 | 300028
Stillwater (FEMA Docket No.: B-1534) | Town of Columbus, (15-08-0781P) | The Honorable Gary Woltermann, Mayor, Town of Columbus, P.O. Box 549, Columbus, MT 59019 | Stillwater County West Annex, 431 Quarry Road, Columbus, MT 59019 | Oct. 19, 2015 | 300109
North Carolina:
Northampton. (FEMA Docket No.: B-1538) | Town of Gaston, (15-04-4075P) | The Honorable Jason Moore, Mayor, Town of Gaston, 223 Craige Street, Gaston, NC 27832 | Town Hall, 223 Craige Street, Gaston, NC 27832 | Oct. 26, 2015 | 370413
Randolph (FEMA Docket No.: B-1534) | Unincorporated areas of Randolph County, (15-04-3243P) | The Honorable Darrell L. Frye, Chairman, Randolph County Board of Commissioners, P.O. Box 4728, Asheboro, NC 27204 | Randolph County Department of Planning and Development, 204 East Academy Street, Asheboro, NC 27203 | Oct. 22, 2015 | 370195
Union (FEMA Docket No.: B-1545) | Unincorporated areas of Union County, (15-04-4081P) | The Honorable Richard, Helms, Chairman, Union County Board of Commissioners, 500 North Main Street, Monroe, NC 28112 | Union County Planning, Division, 500 North Main Street, Monroe, NC 28112 | Nov. 5, 2015 | 370234
North Dakota:
Cass (FEMA Docket No.: B-1534) | City of Fargo, (15-08-0016P) | The Honorable Tim Mahoney, Mayor, City of Fargo, 200 3rd Street North, Fargo, ND 58102 | City Hall, 200 3rd Street North, Fargo, ND 58102 | Nov. 3, 2015 | 385364
Texas:
Bell (FEMA Docket No.: B-1534) | City of Temple, (15-06-1800P) | The Honorable Danny Dunn, Mayor, City of Temple, 2 North Main Street, Suite 103, Temple, TX 76501 | Department of Public Works, Engineering Division, 3210 East Avenue H, Building A, Suite 107, Temple, TX 76501 | Nov. 3, 2015 | 480034
Bexar (FEMA Docket No.: B-1534) | City of San Antonio, (14-06-3172P) | The Honorable Ivy R. Taylor, Mayor, City of San Antonio, P.O. Box 839966, San Antonio, TX 78283 | Transportation and Capital Improvements Department, Stormwater Division, 1901 South Alamo Street, 2nd Floor, San Antonio, TX 78204 | Oct. 15, 2015 | 480045
Denton (FEMA Docket No.: B-1534) | City of Denton, (14-06-3408P) | The Honorable Chris A. Watts, Mayor, City of Denton, 215 East McKinney Street, Denton, TX 76201 | Engineering Department, 901-A Texas Street, Denton, TX 76509 | Nov. 4, 2015 | 480194
Denton (FEMA Docket No.: B-1534) | City of Denton, (15-06-0979P) | The Honorable Chris A. Watts, Mayor, City of Denton, 215 East McKinney Street, Denton, TX 76201 | Engineering Department, 901-A Texas Street, Denton, TX 76509 | Oct. 19, 2015 | 480194
Fort Bend (FEMA Docket No.: B-1538) | Unincorporated areas of Fort Bend County, (14-06-2647P) | The Honorable Robert E. Hebert, Fort Bend County Judge, 401 Jackson Street, Richmond, TX 77469 | Fort Bend County Engineering Department, 301 Jackson Street, 4th Floor, Richmond, TX 77469 | Nov. 13, 2015 | 480228
Harris (FEMA Docket No.: B-1534) | City of Houston, (14-06-4559P) | The Honorable Annise D. Parker, Mayor, City of Houston, P.O. Box 1562, Houston, TX 77251 | Floodplain Management Office, 1002 Washington Avenue, 3rd Floor, Houston, TX 77002 | Oct. 16, 2015 | 480296
Harris (FEMA Docket No.: B-1538) | City of Houston, (15-06-0275P) | The Honorable Annise D. Parker, Mayor, City of Houston, P.O. Box 1562, Houston, TX 77251 | Floodplain Management Office, 1002 Washington Avenue, 3rd Floor, Houston, TX 77002 | Nov. 13, 2015 | 480296
Harris (FEMA Docket No.: B-1534) | City of Pasadena, (14-06-4559P) | The Honorable Johnny Isbell, Mayor, City of Pasadena, 1211 Southmore Avenue, Pasadena, TX 77502 | Engineering Department, 1114 Davis Street, 2nd Floor, Pasadena, TX 77506 | Oct. 16, 2015 | 480307
Harris (FEMA Docket No.: B-1534) | Unincorporated areas of Harris County, (15-06-1289P) | The Honorable Ed M. Emmett, Harris County Judge, 1001 Preston Street, Suite 911, Houston, TX 77002 | Harris County Permit Office, 10555 Northwest Freeway, Suite 120, Houston, TX 77092 | Oct. 30, 2015 | 480287
Tarrant (FEMA Docket No.: B-1538) | City of Forest Hill, (15-06-2903X) | The Honorable Gerald Joubert, Mayor, City of Forest Hill, 3219 California Parkway, Forest Hill, TX 76119 | City Hall, 3219 California Parkway, Forest Hill, TX 76119 | Nov. 10, 2015 | 480595
Tarrant (FEMA Docket No.: B-1538) | City of Fort Worth, (15-06-0370P) | The Honorable Betsy Price, Mayor, City of Fort Worth, 1000 Throckmorton Street, Fort Worth, TX 76102 | City Hall, 1000 Throckmorton Street, Fort Worth, TX 76102 | Nov. 13, 2015 | 480596
Travis (FEMA Docket No.: B-1534) | Unincorporated areas of Travis County, (15-06-1733P) | The Honorable Sarah Eckhardt, Travis County Judge, P.O. Box 1748, Austin, TX 78767 | Travis County Office of Emergency Management Services, 5010 Old Manor Road, Austin TX 78723 | Oct. 28, 2015 | 481026
Waller (FEMA Docket No.: B-1538) | Unincorporated areas of Waller County, (14-06-2647P) | The Honorable Carbett J. Duhon III, Waller County Judge, 836 Austin Street, Suite 203, Hempstead, TX 77445 | Waller County Emergency Management Department, 701 Calvit Street, Hempstead, TX 77445 | Nov. 13, 2015 | 480640
Virginia:
Independent City (FEMA Docket No.: B-1534) | City of Salem, (14-03-3079P) | The Honorable Byron Foley, Mayor, City of Salem, 114 North Broad Street, Salem, VA 24153 | Engineering and Inspections Department, 25 East Main Street, Salem, VA 24153 | Oct. 9, 2015 | 510141
Wisconsin:
Fond du Lac (FEMA Docket No.: B-1538) | Village of Campbellsport, (14-05-3087P) | The Honorable David Krebs, President, Village of Campbellsport Board of Trustees, P.O. Box 709, Campbellsport, WI 53010 | Village Hall, 177 East Main Street, Campbellsport, WI 53010 | Nov. 13, 2015 | 550133
Fond du Lac (FEMA Docket No.: B-1538) | Unincorporated areas of Fond du Lac County, (14-05-3087P) | The Honorable Allen Buechel, Fond du Lac County Executive, 160 South Macy Street, Fond du Lac, WI 54935 | Fond du Lac County Code Enforcement Office, 160 South Macy Street, Fond du Lac, WI 54935 | Nov. 13, 2015 | 550131

[FR Doc. 2016-00769 Filed 1-15-16; 8:45 am]

BILLING CODE 9110-12-P